DEPARTMENT OF DEFENSE

Office of the Secretary

Defense Science Board

AGENCY: Department of Defense.

ACTION: Notice of Advisory Committee Meeting date change.

SUMMARY: On Tuesday, December 30, 2003 (68 FR 75219) the Department of Defense announced closed meetings of the Defense Science Board (DSB) Task Force on Critical Homeland Infrastructure Protection. The meeting originally announced for June 17-18, 2004, has been rescheduled to June 23-24, 2004. It will be held at SAIC, 4001 N. Fairfax Drive, Suite 500, Arlington, VA.

Dated: April 7, 2004.
L.M. Bynum,
Alternate OSD Federal Register Liaison Officer, Department of Defense.

[FR Doc. 04-8258 Filed 4-12-04; 8:45 am]

BILLING CODE 5001-06-M